Title 3—

The President

Proclamation 9245 of March 31, 2015

National Child Abuse Prevention Month, 2015

By the President of the United States of America

A Proclamation

Every child is born into a world filled with limitless possibilities, and as a Nation, we must ensure all our young people have the support they need to realize their enormous potential. Regardless of who they are or the circumstances of their birth, each child deserves to be cared for, cherished, and kept safe from harm. Tragically, abuse and neglect erode this promise for hundreds of thousands of America's daughters and sons each year. This is an injustice. It is contrary to the values of good caretaking and the principles of our Nation, and it must not be tolerated. This month, we celebrate the love and courage it takes to raise a child; we reaffirm the fundamental human rights of all children to live free from violence and abuse; and we rededicate ourselves to ending the cycle of harm too many girls and boys face.

A strong, stable family is the best foundation for a promising childhood, and when parents and caregivers have support—from loved ones, friends, and their community—they are more likely to provide safe and healthy environments for children. It is important for all people to recognize the signs of child neglect and physical, sexual, and emotional abuse, including sudden changes in behavior or school performance and untreated physical or medical issues. Reporting any concerns could protect a child and connect a family with the help they need. To learn more about how to prevent and report child abuse, visit www.ChildWelfare.gov/Preventing.

My Administration is committed to strengthening our Nation's families and doing everything we can to make it easier for mothers and fathers to care and provide for their children. We are also investing in evidence-based State and local programs that promote positive parenting and caregiving to help prevent child abuse and neglect. These efforts can help decrease the number of children entering the foster care system and provide better outcomes for those in it. We will continue to work with the faith community and the private sector to bolster all those who support our Nation's young people, and I encourage leaders across all levels of government to invest in services for victims and provide the resources and protections our kids need.

The work of raising our children is the most important job in our country, and it is also the most challenging. At times, it can be difficult to live up to the enormous responsibilities that come with being a parent, especially when families face hardship. But parenthood does not demand perfection. If we do our best for our children—to nurture their healthy development, seek assistance when needed, and meet our obligations to them—we can demonstrate to our daughters and sons that they are always our first priority.

As a Nation and as individuals, our attitudes toward our children set a powerful example that shapes their character and influences the kind of people they will become. During National Child Abuse Prevention Month, we renew our commitment to protect the safety and well-being of every child, and we resolve to continue the hard work of raising a generation that can dream bigger and reach higher than ever before.

NOW, THEREFORE, I, BARACK OBAMA, President of the United States of America, by virtue of the authority vested in me by the Constitution and the laws of the United States, do hereby proclaim April 2015 as National Child Abuse Prevention Month. I call upon all Americans to observe this month with programs and activities that help prevent child abuse and provide for children's physical, emotional, and developmental needs.

IN WITNESS WHEREOF, I have hereunto set my hand this thirty-first day of March, in the year of our Lord two thousand fifteen, and of the Independence of the United States of America the two hundred and thirty-ninth.

[FR Doc. 2015-07876

Filed 4-2-15; 11:15 am]

Billing code 3295-F5